DEPARTMENT OF THE INTERIOR

National Park Service

[NPS-WASO-NAGPRA-22537; PPWOCRADN0-PCU00RP14.R50000]

Notice of Inventory Completion: Seminole Tribe of Florida, Clewiston, FL

AGENCY: National Park Service, Interior.

ACTION: Notice.

SUMMARY: The Seminole Tribe of Florida has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Seminole Tribe of Florida. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Seminole Tribe of Florida at the address in this notice by January 17, 2017.

ADDRESSES: Dr. Paul Backhouse, Tribal Historic Preservation Office, Seminole Tribe of Florida, 30290 Josie Billie Highway, PMB 1004, Clewiston, FL 33440, telephone (863) 983-6549 Ext. 12244, email Paulbackhouse@semtribe.com.

SUPPLEMENTARY INFORMATION: Notice is here given in accordance with the Native American Graves Protection and Repatriation Act (NAGPRA), 25 U.S.C. 3003, of the completion of an inventory of human remains under the control of the Seminole Tribe of Florida, a federally recognized Indian Tribe organized pursuant to 25 U.S.C. 476, through one of its governmental departments, the Seminole Police Department (Seminole Police Department). The Seminole Tribe of Florida, Tribal Historic Preservation Office (Tribal Historic Preservation Office), another governmental department of the Seminole Tribe of Florida, is handling the NAGRPA process while the human remains continue to be in the physical control of the Seminole Police Department. The human remains were removed from an indeterminate location in Florida.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Seminole Tribe of Florida, (Tribal Historic Preservation Office) professional staff in consultation with representatives of the Alabama-Coushatta Tribe of Texas (previously listed as the Alabama-Coushatta Tribes of Texas); Alabama-Quassarte Tribal Town; Miccosukee Tribe of Indians; Seminole Tribe of Florida (previously listed as the Seminole Tribe of Florida (Dania, Big Cypress, Brighton, Hollywood & Tampa Reservation)); and The Muscogee (Creek) Nation. The Coushatta Tribe of Louisiana; Delaware Nation, Oklahoma; Kialegee Tribal Town; Kiowa Indian Tribe of Oklahoma; Mississippi Band of Choctaw Indians; Poarch Band of Creek Indians (previously listed as the Poarch Band of Creek Indians of Alabama); The Chickasaw Nation; The Seminole Nation of Oklahoma; and Thlopthlocco Tribal Town were contacted and invited to consult, but did not participate.

History and Description of the Remains

On an unknown date, human remains representing, at minimum, two individuals were removed from an unknown location in the state of Florida. In 1993, the human remains were anonymously mailed to a member of the Seminole Tribe of Florida. An unsigned handwritten note was included with the remains indicating that they had been excavated approximately 30 years prior from Florida, and that the sender believed the remains were Native American, and possibly Seminole. The tribal member contacted the Seminole Police Department, who then took possession of the remains. The remains were placed in the Seminole Police Department evidence vault as it was unknown if they were of modern forensic significance. In 2009, the remains were examined by the Broward County Medical Examiner's Office, and in 2013, the remains were examined by the Tribal Historic Preservation Office. The remains were determined to be archeological. The human remains include one partial cranium, a separate partial maxilla and mandible, and three cervical vertebrae. Both individuals were adults based on dental wear and cranial suture closure. One individual was likely female and the other male, based on cranio-facial features associated with sexual morphology. The remains were determined to be those of prehistoric Native American individuals, based on condition and anatomy associated with ancestry. No known individuals were identified. No associated funerary objects are present.

Based on the description in the hand written letter that accompanied the remains, as well as the decision of ancestry recorded in the osteological examination performed by District 17 Medical Examiner, the remains are determined to be those of early Seminole Native Americans. The present-day tribes associated with the early Seminole include the Miccosukee Tribe of Indians, Seminole Tribe of Florida (previously listed as the Seminole Tribe of Florida (Dania, Big Cypress, Brighton, Hollywood & Tampa Reservation)), and The Seminole Nation of Oklahoma.

Determinations Made by the Seminole Tribe of Florida

Officials of the Seminole Tribe of Florida have determined that:

• Pursuant to 25 U.S.C. 3001(9), the human remains described in this notice represent the physical remains of two individuals of Native American ancestry.

• Pursuant to 25 U.S.C. 3001(2), there is a relationship of shared group identity that can be reasonably traced between the Native American human remains and the Miccosukee Tribe of Indians; Seminole Tribe of Florida (previously listed as the Seminole Tribe of Florida (Dania, Big Cypress, Brighton, Hollywood & Tampa Reservation)); and The Seminole Nation of Oklahoma.

Additional Requestors and Disposition

Lineal descendants or representatives of any Indian tribe or Native Hawaiian organization not identified in this notice that wish to request transfer of control of these human remains should submit a written request with information in support of the request to Paul Backhouse, Seminole Tribe of Florida, Tribal Historic Preservation Office, 30290 Josie Billie Hwy, PMB 1004, Clewiston, FL 33440, telephone (863) 983-6549 Ext. 12244, email Paulbackhouse@semtribe.com, by January 17, 2017. After that date, if no additional requestors have come forward, transfer of control of the human remains to the Miccosukee Tribe of Indians, Seminole Tribe of Florida (previously listed as the Seminole Tribe of Florida (Dania, Big Cypress, Brighton, Hollywood & Tampa Reservation)); and The Seminole Nation of Oklahoma may proceed.

The Seminole Tribe of Florida is responsible for notifying the Alabama-Coushatta Tribe of Texas (previously listed as the Alabama-Coushatta Tribes of Texas); Alabama-Quassarte Tribal Town; Coushatta Tribe of Louisiana; Delaware Nation, Kialegee Tribal Town; Kiowa Indian Tribe of Oklahoma; Miccosukee Tribe of Indians; Mississippi Band of Choctaw Indians; Poarch Band of Creek Indians (previously listed as the Poarch Band of Creek Indians of Alabama) Seminole Tribe of Florida (previously listed as the Seminole Tribe of Florida (Dania, Big Cypress, Brighton, Hollywood & Tampa Reservation); The Chickasaw Nation; The Muscogee (Creek) Nation; and The Seminole Nation of Oklahoma and Thlopthlocco Tribal Town that this notice has been published.

Dated: December 7, 2016.
Melanie O'Brien,
Manager, National NAGPRA Program.

[FR Doc. 2016-30335 Filed 12-15-16; 8:45 am]

BILLING CODE 4312-52-P